ENVIRONMENTAL PROTECTION AGENCY

[ER-FRL-6253-3]

Environmental Impact Statements and Regulations; Availability of EPA Comments

Availability of EPA comments prepared March 27, 2000 through March 31, 2000 pursuant to the Environmental Review Process (ERP), under Section 309 of the Clean Air Act and Section 102(2)(c) of the National Environmental Policy Act as amended. Requests for copies of EPA comments can be directed to the Office of Federal Activities at (202) 564-7167.

Summary of Rating Definitions Environmental Impact of the Action

LO—Lack of Objections

The EPA review has not identified any potential environmental impacts requiring substantive changes to the proposal. The review may have disclosed opportunities for application of mitigation measures that could be accomplished with no more than minor changes to the proposal.

EC—Environmental Concerns

The EPA review has identified environmental impacts that should be avoided in order to fully protect the environment. Corrective measures may require changes to the preferred alternative or application of mitigation measures that can reduce the environmental impact. EPA would like to work with the lead agency to reduce these impacts.

EO—Environmental Objections

The EPA review has identified significant environmental impacts that must be avoided in order to provide adequate protection for the environment. Corrective measures may require substantial changes to the preferred alternative or consideration of some other project alternative (including the no action alternative or a new alternative). EPA intends to work with the lead agency to reduce these impacts.

EU—Environmentally Unsatisfactory

The EPA review has identified adverse environmental impacts that are of sufficient magnitude that they are unsatisfactory from the standpoint of public health or welfare or environmental quality. EPA intends to work with the lead agency to reduce these impacts. If the potentially unsatisfactory impacts are not corrected at the final EIS stage, this proposal will be recommended for referral to the CEQ.

Adequacy of the Impact Statement

Category 1—Adequate

EPA believes the draft EIS adequately sets forth the environmental impact(s) of the preferred alternative and those of the alternatives reasonably available to the project or action. No further analysis or data collection is necessary, but the reviewer may suggest the addition of clarifying language or information.

Category 2—Insufficient Information

The draft EIS does not contain sufficient information for EPA to fully assess environmental impacts that should be avoided in order to fully protect the environment, or the EPA reviewer has identified new reasonably available alternatives that are within the spectrum of alternatives analyzed in the draft EIS, which could reduce the environmental impacts of the action. The identified additional information, data, analyses, or discussion should be included in the final EIS.

Category 3—Inadequate

EPA does not believe that the draft EIS adequately assesses potentially significant environmental impacts of the action, or the EPA reviewer has identified new, reasonably available alternatives that are outside of the spectrum of alternatives analyzed in the draft EIS, which should be analyzed in order to reduce the potentially significant environmental impacts. EPA believes that the identified additional information, data, analyses, or discussions are of such a magnitude that they should have full public review at a draft stage. EPA does not believe that the draft EIS is adequate for the purposes of the NEPA and/or Section 309 review, and thus should be formally revised and made available for public comment in a supplemental or revised draft EIS. On the basis of the potential significant impacts involved, this proposal could be a candidate for referral to the CEQ.

Draft EISs

ERP No. D-BIA-K65223-CA Rating EC2, Cortina Integrated Solid Waste Management Project, Development and Operation, Approval of Land Lease Cortina Indian Rancheria of Wintin Indians, Colusa County, CA.

Summary: EPA expressed environmental concerns regarding water quality impacts and the lack of mitigation measures.

ERP No. D-BLM-L65338-OR

Rating EC2, John Day River Management Plan, Implementation, John Day River Basin, Gilliam, Grant, Wheeler, Crook, Harney, Jefferson, Morrow, Sherman, Umatilla, Union and Wasco Counties, OR.

Summary: EPA expressed concern about the degraded environmental conditions in the wild and scenic corridor and the relatively minor adjustments being proposed for land management, which may not be sufficient to protect/enhance the resource values, or comply with state water quality standards. EPA requested that the plan include both implementation and effectiveness monitoring to measure progress in meeting goals/objectives, and to enable BLM and partners to make needed adjustments.

ERP No. D-DOE-L09814-ID Rating EC2, Idaho High-Level Waste and Facilities Disposition, Construction and Operation, Bannock, Bingham, Bonneville, Butte, Clark, Jefferson and Madison Counties, ID.

Summary: EPA expressed concerns about, and requested additional information on: (1) The effectiveness of the grout containing the low-level waste (LLW) in preventing contamination of the aquifer for 500 years, (2) the reclassification of waste stream products as LLW, (3) the existence of adequate facilities for handling LLW, (4) the feasibility of the Hanford alternative, and (5) the accuracy of the cost analysis.

No. D-SFW-L36100-WA Rating EC2, Tacoma Water Green River Water Supply Operations and Watershed Protection Habitat Conservation Plan, Implementation, Issuance of a Multiple Species Permit for Incidental Take, King County, WA.

Summary: EPA expressed environmental concerns regarding flow management, fish passage, and adaptive management. Additional information was requested on gravel enrichment, water conservation, cumulative effects, and the need to integrate the terms of the HCP with the TMDL for 303(d) listed waters.

ERP No. D-SFW-L65335-WA Rating EC2, Crown Pacific Project, Issuance of a Multiple Species Permit for Incidental Take, Hamilton Tree Farm, Habitat Conservation Plan, Whatcom and Skaget County, WA.

Summary: EPA had environmental concerns regarding the issuance of the Incidental Take Permit. EPA suggested that Crown Pacific should improve the approach to riparian management; apply the mass wasting prescriptions on a limited area/trial basis; and establish quantitative, measurable performance targets for resource management objectives. In addition, EPA recommended that adaptive management commitments be incorporated into the HCP and/or that a shorter term for the ITP, with an option to renew, be considered.

Final EISs

ERP No. F-DOE-L09812-WA Hanford Remedial Action, Revised and New Alternatives, Comprehensive Land Use Plan, Hanford Site lies in the Pasco Basin of the Columbia Plateau, WA.

Summary: No formal comment letter was sent to the preparing agency.

ERP No. F-SFW-L64045-00 Grizzly Bear (Ursus arctos horribilus) Recovery Plan in the Bitterroot Ecosystem, Implementation, Endangered Species Act, Proposed Special Rule 10(j) Establishment of a Nonessential Experimental Population of Grizzly Bears in the Bitterroot Area, Rocky Mountain, Blaine, Camas, Boise, Clearwater, Custer, Elmore, Idaho, Lemhi, Shoshone.

Summary: No formal comment letter was sent to the preparing agency.

Dated: April 11, 2000.
Joseph C. Montgomery,
Director, NEPA Compliance Division, Office of Federal Activities.

[FR Doc. 00-9371 Filed 4-13-00; 8:45 am]

BILLING CODE 6560-50-U